DEPARTMENT OF THE INTERIOR

National Park Service

[NPS-WASO-NAGPRA-NPS0036139; PPWOCRADN0-PCU00RP14.R50000]

Notice of Inventory Completion Amendment: New York State Museum, Albany, NY

AGENCY: National Park Service, Interior.

ACTION: Notice; amendment.

SUMMARY: In accordance with the Native American Graves Protection and Repatriation Act (NAGPRA), the New York State Museum (NYSM) has amended a Notice of Inventory Completion published in the Federal Register on December 9, 2022. This notice amends the number of human remains and associated funerary objects removed from the Dennis site, in Menands, Albany County, NY.

DATES: Repatriation of the human remains and associated funerary objects in this notice may occur on or after August 7, 2023.

ADDRESSES: Lisa Anderson, New York State Museum, 3049 Cultural Education Center, Albany, NY 12230, telephone (518) 486-2020, email lisa.anderson@nysed.gov.

SUPPLEMENTARY INFORMATION: This notice is published as part of the National Park Service's administrative responsibilities under NAGPRA. The determinations in this notice are the sole responsibility of the New York State Museum. The National Park Service is not responsible for the determinations in this notice. Additional information on the amendments and determinations in this notice, including the results of consultation, can be found in the inventory or related records held by the New York State Museum.

Amendment

This notice amends the determinations for the Dennis site, in Menands, Albany County, NY, that were published in the Federal Register on December 9, 2022 (87 FR 75659-75662). In the interim, additional human remains as well as associated funerary objects were identified. Repatriation of the items from the Dennis site listed in the original Notice of Inventory Completion has not occurred.

Human remains belonging to, at minimum, eight individuals were removed from the Dennis site, in Menands, Albany County, NY; previously, only seven were identified. The human remains were removed during salvage excavations conducted by Mr. R. Arthur Johnson and others, after the site was disturbed by mining activity. The 123 associated funerary objects are 120 fragments of animal bone and three unmodified stones; previously, none were identified.

The Dennis site is located within traditional Mohican territory. Archeological evidence indicates it was occupied intermittently from the Late Archaic through Late Woodland periods. The human remains and associated funerary objects listed in this notice most likely date to the later occupation.

Determinations (as Amended)

Pursuant to NAGPRA and its implementing regulations, and after consultation with the appropriate Indian Tribes and Native Hawaiian organizations, the New York State Museum has determined that:

• The human remains described in this notice represent the physical remains of eight individuals of Native American ancestry.

• The 123 objects described in this notice are reasonably believed to have been placed with or near the individual human remains at the time of death or later as part of the death rite or ceremony.

• There is a relationship of shared group identity that can be reasonably traced between the human remains and associated funerary objects described in this notice and the Stockbridge Munsee Community, Wisconsin.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 7, 2023. If competing requests for repatriation are received, the New York State Museum must determine the most appropriate requestor prior to repatriation. Requests for joint repatriation of the human remains and associated funerary objects are considered a single request and not competing requests. The New York State Museum is responsible for sending a copy of this notice to the Indian Tribe identified in this notice.

Authority: Native American Graves Protection and Repatriation Act, 25 U.S.C. 3003, and the implementing regulations, 43 CFR 10.9, 10.10, 10.13, and 10.14.

Dated: June 28, 2023.
Melanie O'Brien,
Manager, National NAGPRA Program.

[FR Doc. 2023-14389 Filed 7-6-23; 8:45 am]

BILLING CODE 4312-52-P